ENVIRONMENTAL PROTECTION AGENCY

40 CFR Parts 52 and 81

[PA189-4300; FRL-7556-4]

Approval and Promulgation of Air Quality Implementation Plans; Pennsylvania; Redesignation of the Liberty Borough PM10 Nonattainment Area to Attainment and Approval of the Associated Maintenance Plan

AGENCY: Environmental Protection Agency (EPA).

ACTION: Final rule.

SUMMARY: EPA is approving a request for Pennsylvania to redesignate the Liberty Borough area of Allegheny County, Pennsylvania (the Liberty Borough area) from nonattainment to attainment for the national ambient air quality standard (NAAQS) for particulate matter with an aerodynamic diameter less than or equal to a nominal 10 microns (PM10). EPA is also approving a maintenance plan for the Liberty Borough area. Both the redesignation request and maintenance plan were submitted by the Pennsylvania Department of Environmental Protection (PADEP) on behalf of the Allegheny County Health Department (ACHD). Approval of the maintenance plan, as a revision to the Pennsylvania State Implementation Plan (SIP), puts a plan in place for maintaining the PM10 standard for the next ten years in the Liberty Borough area. This action is being taken in accordance with the Clean Air Act (CAA).

EFFECTIVE DATE: This final rule is effective on October 14, 2003.

ADDRESSES: Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; Pennsylvania Department of Environmental Protection, Bureau of Air Quality, P.O. Box 8468, 400 Market Street, Harrisburg, Pennsylvania 17105; and Allegheny County Health Department, Bureau of Environmental Quality, Division of Air Quality, 301 39th Street, Pittsburgh, Pennsylvania 15201.

FOR FURTHER INFORMATION CONTACT: Ruth Knapp, (215) 814-2191, or by e-mail at knapp.ruth@epa.gov.

SUPPLEMENTARY INFORMATION:

I. Background

On July 18, 2003 (68 FR 42657), EPA published a notice of proposed rulemaking (NPR) for the Commonwealth of Pennsylvania. The NPR proposed to redesignate the Liberty Borough area of Allegheny County, Pennsylvania (the Liberty Borough area) from nonattainment to attainment for the national ambient air quality standard (NAAQS) for particulate matter with an aerodynamic diameter less than or equal to a nominal 10 microns (PM10) and also proposed approval of a maintenance plan for the Liberty Borough area as a SIP Revision. The formal SIP revision along with the redesignation request was submitted by PADEP on behalf of the ACHD on October 28, 2002. Other specific requirements of this action pertaining to the redesignation of the Liberty Borough area to attainment for the PM10 NAAQS and approval of the maintenance plan as a SIP revision, and the rationale for EPA's proposed action are explained in the NPR and will not be restated here. No public comments were received on the NPR.

II. Final Action

EPA is redesignating the Liberty Borough area of Allegheny County, Pennsylvania from nonattainment to attainment for the national ambient air quality standard (NAAQS) for particulate matter with an aerodynamic diameter less than or equal to a nominal 10 microns (PM10) and is also approving a maintenance plan for the Liberty Borough area as a SIP Revision to the Pennsylvania SIP.

III. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by November 10, 2003. Filing a petition for reconsideration by the Administrator of this final rule which redesignates the Liberty Borough area to attainment for PM10 and approves a maintenance plan for the Liberty Borough area does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Particulate matter, Reporting and recordkeeping requirements,

40 CFR Part 81

Air pollution control, National parks, Wilderness areas.

Dated: September 2, 2003.
James W. Newsom,
Acting Regional Administrator, Region III.

40 CFR parts 52 and 81 are amended as follows:

PART 52—[AMENDED]

1. The authority citation for part 52 continues to read as follows:

Authority: 42 U.S.C. 7401 et seq.

Subpart NN—Pennsylvania

2. Section 52.2020 is amended by adding paragraph (c)(215) to read as follows:

§ 52.2020 Identification of plan.

* * * * *

(c) * * *

(215) The PM10 Redesignation and Maintenance Plan for the Liberty Borough area of Allegheny County, Pennsylvania nonattainment area submitted on October 28, 2002 by the Pennsylvania Department of Environmental Protection:

(i) Incorporation by reference.

(A) Letter of October 28, 2002 from the Pennsylvania Department of Environmental Protection transmitting the redesignation request and maintenance plan for the PM10 nonattainment area in the Liberty Borough area of Allegheny County, Pennsylvania.

(B) Maintenance Plan for the Liberty Borough PM10 nonattainment area consisting of Part IV, “Maintenance Plan—Redesignation Criterion 4”; Part I, “Attainment of the Standard—Redesignation Criterion I,” Section B, Figure 3a—”Countywide Network of PM10 Monitors, (Current)”, Section C “Modeled Attainment”; Part VI “Documentation of Administrative Procedures,” Section F “Certification of Approval and Adoption”; Appendix B : “Attainment Inventory”; Appendix C: “Mon-Fayette Expressway Alignment”; Appendix D: “Employment Forecasts”; Appendix E: “Census and Population Forecasts,” dated October 4, 2002 and effective September 14, 2002.

(ii) Additional material.

(A) Remainder of the October 28, 2002 State submittal(s) pertaining to the revisions listed in paragraph (c)(215)(i) of this section.

(B) Additional material submitted by the State on June 20, 2003 which consisted of minor corrections to the PM10 ambient air quality data included in the redesignation request.

PART 81—[AMENDED]

1. The authority citation for Part 81 continues to read as follows:

Authority: 42 U.S.C. 7401 et seq.

Subpart C—Section 107 Attainment Status Designations

2. In § 81.339, the table for “Pennsylvania—PM-10” is amended by revising the entry for Allegheny County to read as follows:

§ 81.339 Pennsylvania.

* * * * *

Pennsylvania—PM-10
Designated area | Designation: Date | Designation: Type | Classification: Date | Classification: Type
Allegheny County:
The area including Liberty, Lincoln, Port Vue, and Glassport Boroughs and the City of Clairton | 10/14/03 | Attainment
* * * * * * *

* * * * *

[FR Doc. 03-23265 Filed 9-10-03; 8:45 am]

BILLING CODE 6560-50-P